DEPARTMENT OF ENERGY

Federal Energy Regulatory Commission

[Docket No. ER05-529-001, et al.]

New England Power Company, et al.; Electric Rate and Corporate Filings

February 25, 2005.

The following filings have been made with the Commission. The filings are listed in ascending order within each docket classification.

1. New England Power Company

[Docket No. ER05-529-001]

Take notice that on February 22, 2005, New England Power Company (NEP) filed an amendment to its January 31, 2005, filing in Docket No. ER05-529-000. NEP states that the amendment consists of a substitute Second Revised Service Agreement No. 116 for network integration transmission service under NEP's Open Access Transmission Tariff, Second Revised Volume No. 9 between NEP and USGen New England, Inc. (USGen). NEP request an effective date of January 1, 2005.

NEP states that copies of this filing have been served on USGen and regulators in the States of Massachusetts and Rhode Island.

Comment Date: 5 p.m. eastern time on March 15, 2005.

2. MidAmerican Energy Company

[Docket No. ER05-624-000]

Take notice that on February 22, 2005, MidAmerican Energy Company (MidAmerican), refiled with the Commission an amended Network Integration Transmission Service Agreement between MidAmerican and the City of Sergeant Bluff, Iowa, dated December 13, 2004, to correct a typographical error in the header of the agreement.

MidAmerican has served a copy of the filing on Sergeant Bluff, the Iowa Utilities Board, the Illinois Commerce Commission and the South Dakota Public Utilities Commission.

Comment Date: 5 p.m. eastern time on March 7, 2005.

3. Texas-New Mexico Power Company

[Docket No. ER05-625-000]

Take notice that on February 22, 2005, Texas-New Mexico Power Company (TNMP) filed new and revised tariff sheets to its open access transmission tariff (OATT) incorporating the changes directed by the Commission in Order No. 2003-B, Standardization of Generator Interconnection Agreements and Procedures, 109 FERC ¶ 61,287 (2004).

TNMP states that a copy of the filing has been mailed to its OATT customers as well as the New Mexico Public Regulation Commission.

Comment Date: 5 p.m. eastern time on March 15, 2005.

4. Cogentrix Lawrence County, LLC

[Docket No. ER05-630-000]

Take notice that on February 22, 2005, Cogentrix Lawrence County, LLC (Cogentrix Lawrence) filed a Notice of Cancellation of its market-based rate electric tariff, FERC Electric Tariff, Original Volume No. 1, effective February 22, 2005.

Comment Date: 5 p.m. eastern time on March 15, 2005.

5. Pataula Electric Membership Corporation

[Docket No. ER05-631-000]

Take notice that on February 22, 2005, Pataula Electric Membership Corporation (Pataula) submitted for filing with the Federal Energy Regulatory Commission a petition for authority to sell power at market-based rates, acceptance of proposed rate schedule, and granting of certain waivers. Pataula requests an effective date for its proposed rate schedule that would be 60 days from the date of filing of the petition or the date of the order accepting Pataula's rate schedule for filing.

Comment Date: 5 p.m. eastern time on March 15, 2005.

6. Complete Energy Services, Inc.

[Docket No. ER05-632-000]

Take notice that on February 22, 2005, Complete Energy Services, Inc. tendered for filing a Notice of Cancellation of market-based rate authority, Rate Schedule FERC No. 1 as authorized in Docket No. ER99-3033-000 on August 5, 1999.

Comment Date: 5 p.m. eastern time on March 15, 2005.

7. The Dayton Power and Light Company; DPL Energy, Inc.

[Docket Nos. ER05-633-000, ER96-2602-008, and ER96-2601-019]

Take notice that, on February 22, 2005, The Dayton Power and Light Company and DPL Energy, Inc. (collectively, Dayton) submitted a compliance filing pursuant to the Commission's Order in Dayton Power and Light Company, 109 FERC ¶ 61,268 (2004).

Dayton states that copies of the filing were served on parties on the official service list in the above-captioned dockets.

Comment Date: 5 p.m. eastern time on March 15, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-835 Filed 3-2-05; 8:45 am]

BILLING CODE 6717-01-P